DEPARTMENT OF STATE

[Public Notice: 6870]

Shipping Coordinating Committee; Notice of Committee Meeting

The Shipping Coordinating Committee (SHC) will conduct five open meetings to prepare for upcoming events at the International Maritime Organization (IMO) in London, United Kingdom. Two of these meetings will be held on 9:30 a.m. on Thursday, October 13, 2011, and on Thursday, November 17, 2011, respectively, at the 6th floor South conference room of the Federal Communications Commission Headquarters Building, 445 12th Street, SW., Washington, DC 20554. Two additional meetings will be held at 9:30 a.m. on Thursday, December 15, 2011, and at 9:30 a.m. on Thursday, January 12, 2012, in Room 10-1420 of the United States Coast Guard Headquarters: Jemal Building, 1900 Half Street, SW., Washington, DC 20593-0001. The primary purpose of these four meetings is to prepare for the sixteenth Session of the International Maritime Organization's (IMO) Sub-Committee on Radio Communications, Search and Rescue (COMSAR 16) to be held at the IMO Headquarters, United Kingdom, March 12-16, 2012. The primary matters to be considered at COMSAR 16 include:

—Opening of the session

—Adoption of the agenda

—Decisions of other IMO bodies

—Global Maritime Distress and Safety System (GMDSS)

—ITU maritime radiocommunication matters

—Consideration of developments in Inmarsat and Cospas-Sarsat

—Search and Rescue (SAR)

—Developments in maritime radiocommunication systems and technology

—Development of amendments to the IAMSAR Manual

—Development of measures to avoid false distress alerts

—Development of measures to protect the safety of persons rescued at sea

—Development of an e-navigation strategy implementation plan

—Revision of the Recommendation for the protection of the AIS VHF Data Link (resolution MSC.140(76)

—Consideration of LRIT related matters

—Biennial agenda and provisional agenda for COMSAR 17

—Election of Chairman and Vice-Chairman for 2013

—Any other business

—Report to the Maritime Safety Committee

Finally, an open meeting will be held at 9:30 a.m. on Wednesday, November 2, 2011, in Room 2501 of the United States Coast Guard Headquarters Building, 2100 Second Street, SW., Washington, DC 20593-0001. The primary purpose of this meeting is to prepare for the twenty-sixth Session of the International Maritime Organization (IMO) Council Extraordinary Session (C/ES 26) to be held at the IMO Headquarters, United Kingdom from November 17 to 18, 2011; the twenty-seventh Session IMO Assembly (A 27) to be held at the IMO Headquarters from November 21 to 30, 2011; and the one hundred and seventh Session of the IMO Council (C 107) to be held at IMO Headquarters on December 1, 2011. The primary matters to be considered at C/ES 26 include:

—Adoption of the agenda

—Report of the Secretary-General on credentials

—Strategy and planning

—Organizational reforms

—Resource management

—Results-based budget for 2012-2013

—Consideration of the report of the Marine Environment Protection Committee

—Consideration of the report of the Facilitation Committee

—Report on the 33rd Consultative Meeting of Contracting Parties to the London Convention 1972 and the 6th Meeting of Contracting Parties to the 1996 Protocol to the London Convention

—Protection of vital shipping lanes

—Report of the Council to the Assembly on the work of the Organization since the twenty-sixth regular session of the Assembly

—External relations

—Report on the status of the Convention and membership of the Organization

—Report on the status of conventions and other multilateral instruments in respect of which the Organization performs functions

—Substantive items for inclusion in the provisional agendas for the next two sessions of the Council

—Supplementary agenda items, if any

The primary matters to be considered at A 27 include:

—Adoption of the agenda

—Election of the President and the Vice-Presidents of the Assembly

—Application of Article 61 of the IMO Convention—Report of the Council to the Assembly on any requests by Members for waiver

—Establishment of committees of the Assembly

—Consideration of the reports of the committees of the Assembly

—Report of the Council to the Assembly on the work of the Organization since the twenty-sixth regular session of the Assembly

—Strategy and planning

—Voluntary IMO Member State Audit Scheme

—Consideration of the reports and recommendations of the Maritime Safety Committee

—Consideration of the reports and recommendations of the Legal Committee

—Consideration of the reports and recommendations of the Marine Environment Protection Committee

—Consideration of the reports and recommendations of the Technical Co-operation Committee

—Consideration of the reports and recommendations of the Facilitation Committee

—Report on diplomatic conferences

—Convention on the Prevention of Marine Pollution by Dumping of Wastes and Other Matter, 1972 and the 1996 Protocol

—Resource management

—Financial sustainability of the World Maritime University

—Global maritime training institutions

—External relations

—Report on the status of the Convention and membership of the Organization

—Report on the status of conventions and other multilateral instruments in respect of which the Organization performs functions

—Election of Members of the Council, as provided for in Articles 16 and 17 of the IMO Convention

—Election of Members of the IMO Staff Pension Committee

—Appointment of the External Auditor

—Approval of the appointment of the Secretary-General

—Date and place of the twenty-eighth regular session of the Assembly

—Farewell to Mr. E.E. Mitropoulos

—Supplementary agenda items, if any

The primary matters to be considered at C 107 include:

—Election of the Chairman and Vice-Chairman

—Adoption of the agenda

—Substantive items for inclusion in the provisional agendas for the next two sessions of the Council

—Date and place of the next session of the Council

—Supplementary agenda items, if any

Members of the public may attend this meeting up to the seating capacity of the room. To facilitate the building security process, and to request reasonable accommodation, those who plan to attend any of the five meetings should contact the following coordinators at least 7 days prior to the meetings:

—For the COMSAR 16 meetings on: October 13, 2011; November 17, 2011; December 15, 2011; and January 12, 2012, contact Mr. Russell Levin, by e-mail at Russell.S.Levin@uscg.mil, by phone at (202) 475-3555, or in writing at Commandant (CG-652), U.S. Coast Guard, 2100 2nd St, SW, STOP 7101, Washington, DC 20593-7101 not later than 7 days prior to each meeting. Requests made after 7 days prior to each meeting might not be able to be accommodated.

—For the A27/CES26/C107 meeting on November 2, 2011, contact LCDR Matthew Frazee, by e-mail at Matthew.P.Frazee@uscg.mil, by phone at (202) 372-1350, or in writing at Commandant (CG-52), U.S. Coast Guard, 2100 2nd Street, SW, STOP 7126, Washington, DC 20593-7126 not later than October 26, 2011, 7 days prior to the meeting. Requests made after October 26, 2011 might not be able to be accommodated.

Please note that due to security considerations, two valid, government issued photo identifications must be presented to gain entrance to the Coast Guard Headquarters building. The Headquarters building is accessible by taxi and privately owned conveyance (public transportation is not generally available). However, parking in the vicinity of the building is extremely limited. Additional information regarding this and other IMO SHC public meetings may be found at: http://www.uscg.mil/imo.

Dated: September 14, 2011.
Brian Robinson,
Executive Secretary, Shipping Coordinating Committee, Department of State.

[FR Doc. 2011-24115 Filed 9-19-11; 8:45 am]

BILLING CODE 4710-09-P